DEPARTMENT OF JUSTICE

28 CFR Part 50

[Docket No. OIP 100]

Request for Public Comment on Draft “Release to One, Release to All” Presumption

AGENCY: Department of Justice.

ACTION: Request for public comment.

SUMMARY: The Department of Justice (the “Department”) is requesting public comment on the draft “Release to One, Release to All” policy, which was prepared by the Office of Information Policy (OIP). This draft policy is not final, and should not be construed to represent Agency policy or views. The draft policy takes into account lessons learned from the DOJ pilot and all of the issues examined through the Chief FOIA Office Council, including certain exceptions to the policy and two different options for the timing of when documents should be posted online. The Department requests your comments on the entire draft policy. All public comments submitted in response to this notice will be considered when finalizing this document.

DATES: Written comments must be postmarked and electronic comments must be submitted on or before December 23, 2016. Commenters should be aware that the electronic Federal Docket Management System will not accept comments after Midnight Eastern Time on the last day of the comment period.

ADDRESSES: You may submit comments, by any of the following methods:

• Federal eRulemaking Portal: http://www.regulations.gov.

• Mail: Bobby Talebian, U.S. Department of Justice; Office of Information Policy; 1425 New York Avenue NW., Suite 11050; Washington, DC 20530-0001. To ensure proper handling, please reference OIP Docket No. 100 on your correspondence.

See SUPPLEMENTARY INFORMATION for further instructions for submitting comments.

FOR FURTHER INFORMATION CONTACT: Bobby Talebian, by mail at U.S. Department of Justice; Office of Information Policy; 1425 New York Avenue NW., Suite 11050; Washington, DC 20530-0001, or by phone at 202-514-3642.

SUPPLEMENTARY INFORMATION:

I. About the Release to All Presumption

In conjunction with President Obama's signing of the FOIA Improvement Act of 2016, the Administration announced new steps to build on a record of openness and transparency, including promoting broader release of records through a “release to one is a release to all” presumption. The President directed the Chief FOIA Officer Council to consider the lessons learned from DOJ's pilot program and work to develop a Federal Government policy establishing a “release to one is a release to all” presumptive standard for Federal agencies when releasing records under the FOIA.

II. Posting of Public Comments

Please note that all comments received are considered part of the public record and made available for public inspection online at http://www.regulations.gov. Such information includes personal identifying information (such as your name and address) voluntarily submitted by the commenter. You are not required to submit personal identifying information in order to comment on this rule. Nevertheless, if you want to submit personal identifying information (such as your name and address) as part of your comment, but do not want it to be posted online, you must include the phrase “PERSONAL IDENTIFYING INFORMATION” in the first paragraph of your comment.

If you want to submit confidential business information as part of your comment but do not want it to be posted online, you must include the phrase “CONFIDENTIAL BUSINESS INFORMATION” in the first paragraph of your comment. Personal identifying information and confidential business information identified as set forth above will be placed in the agency's public docket file, but not posted online. If you wish to inspect the agency's public docket file in person by appointment, please see the paragraph above entitled FOR FURTHER INFORMATION CONTACT.

Dated: December 6, 2016.
Melanie Ann Pustay,
Director, Office of Information Policy.

[FR Doc. 2016-29727 Filed 12-8-16; 8:45 am]

BILLING CODE 4410-BE-P